DEPARTMENT OF LABOR

Employment and Training Administration

[TA-W-62,858]

Household Utilities, Inc., Kiel, WI; Notice of Affirmative Determination Regarding Application for Reconsideration

By application dated April 7, 2008, a petitioner requested administrative reconsideration of the negative determination regarding workers' eligibility to apply for Trade Adjustment Assistance (TAA) and Alternative Trade Adjustment Assistance (ATAA) applicable to workers and former workers of the subject firm. The determination was issued on March 5, 2008. The Notice of determination was published in the Federal Register on March 21, 2008 (73 FR 15218).

The determination was based on the Department's findings that sales and production of industrial parts, medical carts and medical cabinets increased in 2007 as compared to 2006 and no shift in production to a foreign source occurred.

The request for reconsideration alleges that sales and production decreased in January, 2008 and customers of the subject firm shifted production abroad.

The Department has carefully reviewed the request for reconsideration and will investigate the period of time as defined by the petitioner which is under the relevant period of the investigation.

Conclusion

After careful review of the application, I conclude that the claim is of sufficient weight to justify reconsideration of the U.S. Department of Labor's prior decision. The application is, therefore, granted.

Signed at Washington, DC, this 17th day of April 2008.
Elliott S. Kushner,
Certifying Officer, Division of Trade Adjustment Assistance.

[FR Doc. E8-8781 Filed 4-22-08; 8:45 am]

BILLING CODE 4510-FN-P